DEPARTMENT OF THE INTERIOR

Office of the Secretary

Renewal of Information Collection: Claim for Relocation Payments—Residential, DI-381 and Claim for Relocation Payments—Nonresidential, DI-382

AGENCY: Office of Acquisition and Property Management, Office of the Secretary, Interior.

ACTION: Notice and request for comments.

SUMMARY: In compliance with section 3506(c)(2)(A) of the Paperwork Reduction Act of 1995, the Office of Acquisition and Property Management announces that it has submitted a request for renewal of approval of this information collection to the Office of Management and Budget (OMB), and requests public comments on this submission.

DATES: OMB has up to 60 days to approve or disapprove the information collection request, but may respond after 30 days; therefore, public comments should be submitted to OMB by June 28, 2012, in order to be assured of consideration.

ADDRESSES: Send your written comments by facsimile (202) 395-5806 or email (OIRA_DOCKET@omb.eop.gov) to the Office of Information and Regulatory Affairs, Office of Management and Budget, Attention: Department of the Interior Desk Officer (OMB Control Number 1084-0010). Also, please send a copy of your comments to Mary Heying, Office of Acquisition and Property Management, 1849 C Street NW., MS 2607 MIB, Washington, DC 20240. If you wish to submit comments by facsimile, the number is (202) 254-5591, or by email to mary_heying@ios.doi.gov. Individuals providing comments should reference Relocation Payments.

FOR FURTHER INFORMATION CONTACT: Requests for additional information or copies of the information collection instruments should be directed to Mary Heying, Office of Acquisition and Property Management, 1849 C Street NW., MS 2607 MIB, Washington, DC 20240. You may also request additional information by telephone (202) 254-5503, facsimile at (202) 254-5591, or by email at mary_heying@ios.doi.gov.

SUPPLEMENTARY INFORMATION:

Abstract

Office of Management and Budget (OMB) regulations at 5 CFR part 1320, which implement the Paperwork Reduction Act of 1995 (Pub. L. 104-13) require that interested members of the public and affected agencies have an opportunity to comment on information collection and recordkeeping activities (see 5 CFR 1320.8 (d)). This notice identifies an information collection activity that the Office of Acquisition and Property Management has submitted to OMB for renewal. Form DI-381, Claim For Relocation Payments—Residential, and DI-382, Claim For Relocation Payments—Nonresidential, provide the means for the applicant to present allowable moving expenses and certify to occupancy status, after having been displaced because of Federal acquisition of their real property.

II. Method of Collection

Individuals or businesses displaced by Federal acquisition of their real property will submit either Form DI-381 or DI-382, respectively. These forms give the claimant the opportunity to provide the information needed to determine the amount of the financial claim which would remunerate the individual or business for costs incurred as a result of the loss of the property as well as certain moving costs and other associated costs. For example, the residential Form provides for itemization of downpayment and incidental expenses. The non-residential Form provides for itemization of the type of concern or business, moving and storage expenses, reasonable search expenses, direct loss of personal property, and reestablishment expenses, for example. Without such forms, it would not be possible to acquire the precise information associated with the permissible reimbursements permitted under the statute.

III. Data

(1) Title: Claim for Relocation Payments—Residential, DI-381, and Claim For Relocation Payments—Nonresidential, DI-382.

OMB Control Number: 1084-0010.

Type of Review: Information Collection: Renewal.

Affected Entities: Individuals, Businesses.

Estimated annual number of respondents: DI-381: 50. DI-382: 35.

Frequency of response: Once per relocation.

(2) Annual reporting and record keeping burden:

Estimated combined total number of responses annually: 85.

Estimated burden per response: 49 minutes (0.82 hours per response).

Total annual reporting: 70 hours.

(3) Description of the need and use of the information: This information will provide the basis upon which required reimbursements to individuals or nonresidents displaced by Federal acquisition of real property should be made, in accordance with the Uniform Relocation Assistance and Real Property Acquisition Policies for Federal and Federally Assisted Programs Act of 1970, as amended, and the implementing Final Rule issued by the Department of Transportation, 49 CFR part 24.

As required under 5 CFR 1320.8(d), a Federal Register notice soliciting comments on the collection of information was published on March 1, 2012 (77 FR 12610). No comments were received. This notice provides the public with an additional 30 days in which to comment on the information collection activity.

IV. Request for Comments

The Department of the Interior invites comments on:

(a) Whether the collection of information is necessary for the proper performance of the functions of the agency, including whether the information will have practical utility;

(b) The accuracy of the agency's estimate of the burden of the collection and the validity of the methodology and assumptions used;

(c) Ways to enhance the quality, utility, and clarity of the information to be collected; and

(d) Ways to minimize the burden of the collection of information on those who are to respond, including through the use of appropriate automated, electronic, mechanical, or other collection techniques or other forms of information technology.

Burden means the total time, effort, or financial resources expended by persons to generate, maintain, retain, disclose or provide information to or for a federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information.

All written comments, with names and addresses, will be available for public inspection. If you wish us to withhold your personal information, you must prominently state at the beginning of your comment what personal information you want us to withhold. We will honor your request to the extent allowable by law. If you wish to view any comments received, you may do so by scheduling an appointment with the Office of Acquisition and Property management at the above address. A valid picture identification is required for entry into the Department of the Interior.

An agency may not conduct or sponsor, and a person is not required to respond to, a collection of information unless it displays a currently valid Office of Management and Budget control number.

Dated: May 17, 2012.
Debra E. Sonderman,
Director, Office of Acquisition and Property Management.

[FR Doc. 2012-12847 Filed 5-25-12; 8:45 am]

BILLING CODE 4310-RK-P